ENVIRONMENTAL PROTECTION AGENCY

40 CFR Part 98

Mandatory Greenhouse Gas Reporting

CFR Correction

In Title 40 of the Code of Federal Regulations, Parts 96 to 99, revised as of July 1, 2014, on page 859, in § 98.244, reinstate paragraph (b)(4)(ix) to read as follows:

§ 98.244 Monitoring and QA/QC requirements.

* * * * *

(b) * * *

(4) * * *

(ix) Method 18 at 40 CFR part 60, appendix A-6.

* * * * *

[FR Doc. 2015-09121 Filed 4-17-15; 8:45 am]

BILLING CODE 1505-01-D